DEPARTMENT OF TRANSPORTATION

Federal Aviation Administration

14 CFR Part 39

[Docket No. FAA-2009-1076; Directorate Identifier 2009-CE-019-AD; Amendment 39-16296; AD 2010-10-17]

RIN 2120-AA64

Airworthiness Directives; Mitsubishi Heavy Industries, Ltd. Various Models MU-2B Airplanes

AGENCY: Federal Aviation Administration (FAA), Department of Transportation (DOT).

ACTION: Final rule.

SUMMARY: We are adopting a new airworthiness directive (AD) to supersede Airworthiness Directive (AD) 2006-17-01, AD 2006-15-07, AD 2000-02-25, and AD 97-25-02, which applies to certain Mitsubishi Heavy Industries, Ltd. (MHI) various Models MU-2B airplanes. An FAA MU-2B safety evaluation resulted in the standardization of the MU-2B specific training and the FAA-accepted pilot operating checklists through a special Federal aviation regulation (SFAR). MHI revised the airplane flight manuals (AFMs) to align them with the information in that training and the checklists. In addition, incorporating all AFM revisions up to and including this latest AFM revision will incorporate all AFM compliance actions required by the four above-mentioned ADs. This AD would retain from AD 2006-17-01 the inspection of the engine torque indication system and possible recalibration of the torque pressure transducers and would require incorporating all revisions up to and including the latest revisions of the AFM. We are issuing this AD to correct inconsistencies in critical operating procedures between the MU-2B specific training, the FAA-accepted pilot operating checklists, and the AFMs, which, if not corrected, could result in the pilot inadvertently taking inappropriate actions in critical operating conditions.

DATES: This AD becomes effective on July 22, 2010.

On July 22, 2010, the Director of the Federal Register approved the incorporation by reference of certain publications listed in this AD.

ADDRESSES: For service information identified in this AD, contact Mitsubishi Heavy Industries America, Inc., 4951 Airport Parkway, Suite 800, Addison, Texas 75001; telephone: (972) 934-5480; fax: (972) 934-5488; Internet: http://www.mu-2aircraft.com or http://www.turbineair.com.

To view the AD docket, go to U.S. Department of Transportation, Docket Operations, M-30, West Building Ground Floor, Room W12-140, 1200 New Jersey Avenue, SE., Washington, DC 20590, or on the Internet at http://www.regulations.gov. The docket number is FAA-2009-1076; Directorate Identifier 2009-CE-019-AD.

FOR FURTHER INFORMATION CONTACT: Al Wilson, Flight Test Pilot, FAA, Fort Worth ACO, 2601 Meacham Blvd., Fort Worth, Texas 76137; telephone: (817) 222-5146; fax: (817) 222-5960.

SUPPLEMENTARY INFORMATION:

Discussion

This AD results from inconsistencies in critical operating procedures between the MU-2B specific training, the FAA-accepted pilot operating checklists, and the AFMs. In 2005, the FAA, Aircraft Certification Service and Flight Standards Service, conducted an MU-2B safety evaluation. The FAA found that MU-2B specific training was not required for all operators and, when provided, was not standardized. The safety evaluation also revealed that many FAA-accepted pilot operating checklists used by operators and trainers at the time of the evaluation had no regulatory basis and were locally produced. This resulted in a lack of standardization for normal, abnormal, and emergency flight operations.

In 2008, the FAA issued SFAR No. 108, Mitsubishi MU-2B Series Airplane Special Training, Experience, and Operating Requirements. This SFAR requires standardization for critical operating procedures in training and in the FAA-accepted pilot operating checklists. MHI revised the AFMs to align them with the information in the current SFAR. The FAA requested Mitsubishi Heavy Industries, Ltd. make changes to the AFM for each model approved under Type Certificate Data Sheets (TCDS) A10SW and A2PC.

Incorporating all AFM revisions up to and including this latest AFM revision will incorporate the AFM actions in other ADs, as follows:

• AD 97-25-02, Amendment 39-10225 (62 FR 63830, December 3, 1997), requires revising the Limitations section of the airplane AFM to prohibit positioning the power levers below the flight idle stop while the airplane is in flight.

• AD 2000-02-25, Amendment 39-11543 (65 FR 5422, February 4, 2000), requires revising the AFM to include requirements for activating the airframe pneumatic deicing boots.

• AD 2006-15-07, Amendment 39-14687 (71 FR 41116, July 20, 2006), requires revising the Limitations section of the AFM to prevent improper rigging of the propeller feathering linkage.

• AD 2006-17-01, Amendment 39-14722 (71 FR 47697, August 18, 2006), requires inspecting the engine torque indication system, recalibrating the torque pressure transducers as required, and revising the Limitations section of the AFM to include power assurance charts. The one-time inspection and possible recalibration are not part of the AFM revisions.

We are issuing this AD to correct inconsistencies in critical operating procedures between the MU-2B specific training, the FAA-accepted pilot operating checklists, and the AFMs, which, if not corrected, could result in the pilot inadvertently taking inappropriate actions in critical operating conditions.

Comments

We provided the public the opportunity to participate in developing this AD. The following presents the comments received on the proposal and FAA's response to each comment:

Comment Issue No. 1: This Failure Could Lead to Loss of Control

Ralph M. Sorrells, Mitsubishi Heavy Industries America, Inc., Patrick E. Cannon, Turbine Aircraft Services, Inc., and Earle P. Martin III, Mid-Coast Air Charter, Inc., comment on the Summary, Discussion, and Unsafe Condition sections of the proposed AD. The commenters oppose the wording used in the notice of proposed rulemaking (NPRM) that says the unsafe condition, if left uncorrected, could result in loss of control. Two of the commenters suggest this is an “administrative” AD and we should not use “loss of control” as a justification. One commenter suggests changing the justification to “improve safety” in lieu of “loss of control.”

We agree with the commenters that the wording “loss of control” used throughout the NPRM does not accurately reflect the justification for this AD. We are changing the wording to the following in the Summary, Discussion, and Unsafe Condition sections of the NPRM: “We are issuing this AD to correct inconsistencies in critical operating procedures between the MU-2B specific training, the FAA-accepted pilot operating checklists, and the AFMs, which, if not corrected, could result in the pilot inadvertently taking inappropriate actions in critical operating conditions.”

Comment Issue No. 2: Special Federal Aviation Regulation (SFAR)-108

Ralph M. Sorrells, Mitsubishi Heavy Industries America, Inc., states the current SFAR-108 mandates standardized training, the latest revision of the AFM, and the use of standardized checklists. The SFAR requirements have eliminated the “inconsistencies” as stated in the NPRM; and the SFAR standardized FAA-accepted checklists, eliminating the inconsistencies in the checklists; therefore, no unsafe condition exists. We infer from this comment the commenter feels this AD action is unnecessary. The FAA partially agrees with these comments.

We agree with the commenter that the SFAR-108 is the current regulatory standard to follow, when inconsistencies exist between the SFAR requirements and the approved AFM. However, we disagree with the commenter that the inconsistencies have been eliminated. The SFAR mandated the appropriate AFM for each model; however, it did not specify an AFM revision level. Owners could currently be using a version of the AFM that is not consistent with the FAA-accepted checklists required by the SFAR. The intent of this NPRM is to mandate the latest AFM revision level. To clarify the intent of the wording “FAA-accepted checklists” used in the NPRM, we are changing the first paragraph of the Discussion section to read: “* * * the safety evaluation also revealed that many FAA-accepted pilot operating checklists used by operators and trainers at the time of the evaluation had no regulatory basis * * *”

Comment Issue No. 3: Current Applicable Service Bulletin for the Compliance Section, Paragraph 2(e)(1)

Ralph M. Sorrells, Mitsubishi Heavy Industries America, Inc., states that the NPRM does not reference the latest revision to the service bulletin in the Compliance section, paragraph 2(e)(1). He suggests revising the Compliance section, paragraph 2(e)(1), to reference MHI MU-2 Service Bulletin No. 233B, dated March 8, 2007, as the applicable service bulletin for TCDS A2PC model airplanes.

The FAA partially agrees with this comment. We agree that inspecting the engine torque indication system and recalibrating the torque pressure transducers following MHI MU-2 Service Bulletin No. 233B, dated March 8, 2007, will comply with the requirements of the AD. However, we disagree with requiring the actions following MHI MU-2 Service Bulletin No. 233B, dated March 8, 2007. The actions to inspect the engine torque indication system and recalibrate the torque pressure transducers are retained from AD 2006-17-01, issued in 2006, and doing the actions following MHI MU-2 Service Bulletin No. 233A, dated January 14, 1999, still complies with the intent of AD 2006-17-01. We will retain inspecting the engine torque indication system and recalibrating the torque pressure transducers following MHI MU-2 Service Bulletin No. 233A, dated January 14, 1999, but add language allowing the use of MHI MU-2 Service Bulletin No. 233B, dated March 8, 2007, to comply with the requirements of this final rule AD action.

Comment Issue No. 4: Reformat Table No. 1

Ralph M. Sorrells, Mitsubishi Heavy Industries America, Inc., comments that Table 1 of the NPRM in the Compliance section of the NPRM should be revised to clarify which TCDS applies to each model. The commenter also suggests we change Table 1 of the NPRM to show the correct revision level for the Model MU-2B-35 (A2PC), which is revision 10 versus revision 9. Certain model airplanes (-25, -26, and -35) were type certificated under both the A2PC and A10SW type certificates and have separate AFMs.

The commenter states Table 1 of the NPRM appears confusing as to which AFM applies to the models approved under both TCDS A2PC and A10SW. Table 1 of the NPRM does not reference the reissued AFM date that applies for TCDS A2PC models. The AFM for TCDS A10SW models are not affected since the power assurance charts were included in the reissued AFM and have not been revised.

The FAA agrees with the commenter and will revise Table 3 of the final rule AD action to clarify the appropriate TCDS and identify the correct AFM, revision level, and effective pages for the power assurance charts for all models.

Comment Issue No. 5: Reformat Table No. 2

Ralph M. Sorrells, Mitsubishi Heavy Industries America, Inc., comments on the need to clarify the appropriate action to obtain the AFM information for Models MU-2B-35 and MU-2B-36 type certificated under TCDS A10SW.

The commenter suggests referencing “MU-2B-35 Airplane Flight Manual J Model, Document Number MR-0158-1” as the approved data for Model MU-2B-35. The commenter also states there has never been an A10SW version of the MU-2B-36 so this item should be removed. The commenter recommends changing the language for the Note associated with Table 2 in the NPRM to state, “AFM revisions are not available for Model MU-2B-35 under TCDS A10SW because the only Model MU-2B-35 airplane is no longer in service and was subsequently removed from the registry. Mitsubishi Heavy Industries, Ltd. has indicated they have no intention of putting the MU-2B-35 model back in production. There are no other serial numbers eligible for this model, foreign or domestic. This model is still eligible under the type certificate, so if Mitsubishi Heavy Industries, Ltd., does put this model back in production, contact them for an FAA-approved AFM.”

The FAA partially agrees with the commenter. We agree that the A10SW TCDS has been revised to show no serial numbers for -35 and -36 models. However, since the models are still part of the type certificate, we disagree with removing those models from the AD. As such, we are retaining Models -35 and -36 in the Applicability section of this AD. Since no serial numbers for these model airplanes currently exist, it would be impossible to comply with the actions of this AD for those airplane models. We are removing NOTE 2 and NOTE 3 and removing Models -35 and -36 from TABLE 4 of this final rule AD action.

Comment Issue No. 6: Suggest the Wording “Current AFM Revision”

Patrick E. Cannon, Turbine Aircraft Services, Inc., suggests that to avoid revising the AD to mandate each subsequent AFM revision, the NPRM use the term “current AFM revision” to mandate incorporating subsequent revisions to the AFMs.

The FAA does not agree. We do not have the legal authority to reference documents that do not currently exist for the purpose of addressing an unsafe condition through AD action. The FAA will consider approval of future revisions through additional rulemaking should the need arise or may consider allowing their use of future revisions through approval of an alternative method of compliance (AMOC) if the substantiating data supports the revised AFM.

Conclusion

We have carefully reviewed the available data and determined that air safety and the public interest require adopting the AD as proposed except for the changes previously discussed and minor editorial corrections. We have determined that these minor corrections:

• Are consistent with the intent that was proposed in the NPRM for correcting the unsafe condition; and

• Do not add any additional burden upon the public than was already proposed in the NPRM.

Costs of Compliance

We estimate that this AD affects 355 airplanes.

We estimate the following costs to accomplish the engine torque indication system inspection, including the recalibration and ground check if needed.

This is a retained cost from AD 2006-17-01:

Labor cost | Parts cost | Total cost per airplane | Total cost on U.S. operators
5 work-hours × $85 = $425 | Not applicable | $425 | $150,875

We estimate the following costs to do the AFM revisions:

Labor cost | Parts cost | Total cost per airplane | Total cost on U.S. operators
1 work-hour × $85 per hour = $85 | Not applicable | $85 | $30,175

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2009-1076; Directorate Identifier 2009-CE-019-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 97-25-02, Amendment 39-10225 (62 FR 63830, December 3, 1997); AD 2000-02-25, Amendment 39-11543 (65 FR 5422, February 4, 2000); AD 2006-15-07, Amendment 39-14687 (71 FR 41116, July 20, 2006); and AD 2006-17-01, Amendment 39-14722 (71 FR 47697, August 18, 2006), and adding the following new AD:

2010-10-17 Mitsubishi Heavy Industries, Ltd.: Amendment 39-16296; Docket No. FAA-2009-1076; Directorate Identifier 2009-CE-019-AD.

Effective Date

(a) This AD becomes effective on July 22, 2010.

Affected ADs

(b) This AD supersedes AD 97-25-02, Amendment 39-10225; AD 2000-02-25, Amendment 39-11543; AD 2006-15-07, Amendment 39-14687; and AD 2006-17-01, Amendment 39-14722.

Applicability

(c) This AD applies to the following airplane models and serial numbers that are certificated in any category:

Table 1—Mitsubishi Heavy Industries, Ltd., (MHI) Airplanes Listed in Type Certificate Data Sheet (TCDS) A10SW
Models | Serial Nos.
MU-2B-25, MU-2B-26, MU-2B-26A, MU-2B-36A, MU-2B-40, and MU-2B-60 | All serial numbers.
MU-2B-35 and MU-2B-36 | There are no serial numbers for MU-2B-35 or MU-2B-36 under TCDS A10SW.

Table 2—MHI Airplanes Listed in TCDS A2PC
Models | Serial Nos.
MU-2B, MU-2B-10, MU-2B-15, MU-2B-20, MU-2B-25, MU-2B-26, MU-2B-30, MU-2B-35, MU-2B-36 | All serial numbers.

Unsafe Condition

(d) This AD results from inconsistencies in critical operating procedures between the MU-2B specific training, the FAA-accepted pilot operating checklists, and the airplane flight manuals (AFM). MHI revised the AFMs to align them with the information in that training and the checklists. We are issuing this AD to correct inconsistencies in critical operating procedures between the MU-2B specific training, the FAA-accepted pilot operating checklists, and the AFMs, which, if not corrected, could result in pilots inadvertently taking inappropriate actions in critical operating conditions.

Compliance

(e) Do the following unless already done:

(1) Within 100 hours time-in-service (TIS) after September 22, 2006 (the effective date retained from AD 2006-17-01), inspect the engine torque indication system and, before further flight after the inspection, recalibrate the torque pressure transducers as required. For airplanes listed in TCDS A2PC, follow MHI MU-2 Service Bulletin No. 233A, dated January 14, 1999 or MHI MU-2 Service Bulletin No. 233B, dated March 8, 2007. For airplanes listed in TCDS A10SW, follow MHI MU-2 Service Bulletin No. 095/77-002, dated July 15, 1998. This inspection requires the use of the following power assurance charts as applicable:

(i) If you have not incorporated the AFM revisions required in paragraph (e)(2) of this AD: Use the power assurance charts referenced in Table 3 below; or

(ii) If you have already incorporated the AFM revisions required in paragraph (e)(2) of this AD: Use the power assurance charts in section 6 of the revised AFMs required by paragraph (e)(2) of this AD.

Table 3—Power Assurance Chart From AD 2006-17-01
TCDS | Airplane model affected | Date and version of AFM | Page No. from AFM
A2PC | MU-2B | AFM, Section 6, Reissued March 5, 1987, Revision 9, dated January 14, 1999 | 6-34.
| MU-2B-10 | AFM, Section 6, Reissued March 5, 1987, Revision 9, dated January 14, 1999 | 6-19.
| MU-2B-15 | AFM, Section 6, Reissued March 5, 1987, Revision 9, dated January 14, 1999 | 6-19.
| MU-2B-20 | AFM, Section 6, Reissued March 3, 1987, Revision 9, dated January 14, 1999 | 6-20.
| MU-2B-25 | AFM, Section 6, Reissued March 3, 1987, Revision 9, dated January 14, 1999 | 6-19.
| MU-2B-26 | AFM, Section 6, Reissued March 3, 1987, Revision 9, dated January 14, 1999 | 6-19.
| MU-2B-30 | AFM, Section 6, Reissued February 19, 1987, Revision 10, dated January 14, 1999 | 6-19.
| MU-2B-35 | AFM, Section 6, Reissued February 19, 1987, Revision 10, dated January 14, 1999 | 6-19.
| MU-2B-36 | AFM, Section 6, Reissued February 19, 1987, Revision 9, dated January 14, 1999 | 6-20.
A10SW | MU-2B-25 | AFM, Section 6, Reissued March 25, 1986 | 6-18 and 6-19.
| MU-2B-26 | AFM, Section 6, Reissued March 25, 1986 | 6-17 and 6-18.
| MU-2B-26A | AFM, Section 6, Reissued March 25, 1986 | 6-17 and 6-18.
| MU-2B-36A | AFM, Section 6, Reissued February 28, 1986 | 6-20 and 6-21.
| MU-2B-40 | AFM, Section 6, Reissued March 25, 1986 | 6-17 and 6-18.
| MU-2B-60 | AFM, Section 6, Reissued September 24, 1986 | 6-19 and 6-20.

(2) Within the next 50 hours TIS after July 22, 2010 (the effective date of this AD) or within the next 6 months after July 22, 2010 (the effective date of this AD), whichever occurs first, incorporate all revisions up to and including the latest revisions as published in the list of effective pages of the applicable AFM listed in Table 4 and Table 5 of this AD. Assure that the applicable AFM contains each page, matching all the page numbers and page dates, listed in the Effective Pages listing for that AFM. The airplane identification data plate identifies the type certificate number for that airplane:

Table 4—TCDS A10SW
Airplane model | AFM name | Effective pages list
MU-2B-25 | MU-2B-25 Airplane Flight Manual K Model, Document Number MR-0156-1 | all revised pages up to and including revision 11, dated March 10, 2009, as listed on page 1 and page 2 of the “Effective Pages” in the AFM.
MU-2B-26 | MU-2B-26 Airplane Flight Manual M Model, Document Number MR-0160-1 | all revised pages up to and including revision 11, dated March 10, 2009, as listed on page 1 and page 2 of the “Effective Pages” in the AFM.
MU-2B-26A | MU-2B-26A Airplane Flight Manual P Model, Document Number MR-0194-1 | all revised pages up to and including revision 13, dated March 10, 2009, as listed on page 1 and page 2 of the “Effective Pages” in the AFM.
MU-2B-36A | MU-2B-36A Airplane Flight Manual N Model, Document Number MR-0196-1 | all revised pages up to and including revision 15, dated March 10, 2009, as listed on page 1 and page 2 of the “Effective Pages” in the AFM.
MU-2B-40 | MU-2B-40 Airplane Flight Manual SOLITAIRE Model, Document Number MR-0271-1 | all revised pages up to and including revision 13, dated March 10, 2009, as listed on page 1 and page 2 of the “Effective Pages” in the AFM.
MU-2B-60 | MU-2B-60 Airplane Flight Manual MARQUISE Model, Document Number MR-0273-1 | all revised pages up to and including revision 15, dated March 10, 2009, as listed on page 1 and page 2 of the “Effective Pages” in the AFM.

Table 5—TCDS A2PC
Airplane model | AFM name | Effective pages list
MU-2B | MU-2B Airplane Flight Manual, YET 67026A | all revised pages up to and including revision 13, dated November 29, 2007, as listed on page 1 and page 2 of the “Effective Pages” in the AFM.
MU-2B-10 | MU-2B-10 Airplane Flight Manual, YET 86400 | all revised pages up to and including revision 13, dated November 29, 2007, as listed on page 1 and page 2 of the “Effective Pages” in the AFM.
MU-2B-15 | MU-2B-15 Airplane Flight Manual, YET 68038A | all revised pages up to and including revision 13, dated November 29, 2007, as listed on page 1 and page 2 of the “Effective Pages” in the AFM.
MU-2B-20 | MU-2B-20 Airplane Flight Manual, YET 68034A | all revised pages up to and including revision 13, dated November 29, 2007, as listed on page 1 and page 2 of the “Effective Pages” in the AFM.
MU-2B-25 | MU-2B-25 Airplane Flight Manual, YET 71367A | all revised pages up to and including revision 13, dated November 29, 2007, as listed on page 1 and page 2 of the “Effective Pages” in the AFM.
MU-2B-26 | MU-2B-26 Airplane Flight Manual, YET 74129A | all revised pages up to and including revision 13, dated November 29, 2007, as listed on page 1 and page 2 of the “Effective Pages” in the AFM.
MU-2B-30 | MU-2B-30 Airplane Flight Manual, YET 69013A | all revised pages up to and including revision 14, dated November 29, 2007, as listed on page 1 and page 2 of the “Effective Pages” in the AFM.
MU-2B-35 | MU-2B-35 Airplane Flight Manual, YET 70186A | all revised pages up to and including revision 14, dated November 29, 2007, as listed on page 1 and page 2 of the “Effective Pages” in the AFM.
MU-2B-36 | MU-2B-36 Airplane Flight Manual, YET 74122A | all revised pages up to and including revision 13, dated November 29, 2007, as listed on page 1 and page 2 of the “Effective Pages” in the AFM.

Alternative Methods of Compliance (AMOCs)

(f) The Manager, FAA, Fort Worth Airplane Certification Office (ACO), has the authority to approve AMOCs for this AD, if requested using the procedures found in 14 CFR 39.19. Send information to ATTN: Al Wilson, Flight Test Pilot, FAA, Fort Worth ACO, 2601 Meacham Blvd., Fort Worth, Texas 76137; telephone: (817) 222-5146; fax: (817) 222-5960. Before using any approved AMOC on any airplane to which the AMOC applies, notify your appropriate principal inspector (PI) in the FAA Flight Standards District Office (FSDO), or lacking a PI, your local FSDO.

Material Incorporated by Reference

(g) You must use Mitsubishi Heavy Industries, Ltd. MU-2 Service Bulletin No. 233A, dated January 14, 1999; Mitsubishi Heavy Industries, Ltd. MU-2 Service Bulletin No. 095/77-002, dated July 15, 1998; Mitsubishi Heavy Industries, Ltd. MU-2 Service Bulletin No. 233B, dated March 8, 2007; and the AFMs specified in Table 6 of this AD to do the actions required by this AD, unless the AD specifies otherwise. The AFMs and Pilot's Operating Manuals (POMs) are bound together in one book for each airplane model; however, only the AFMs are required to comply with this AD. The POMs are not approved data and are not incorporated by reference; the POMs are not required to comply with this AD.

(1) The Director of the Federal Register approved the incorporation by reference of this service information under 5 U.S.C. 552(a) and 1 CFR part 51.

(2) On September 22, 2006 (71 FR 47699, August 18, 2006) the Director of the Federal Register approved the incorporation by reference of Mitsubishi Heavy Industries, Ltd. MU-2 Service Bulletin No. 095/77-002, dated July 15, 1998; and Mitsubishi Heavy Industries, Ltd. MU-2 Service Bulletin No. 233A, dated January 14, 1999.

(3) For service information identified in this AD, contact Mitsubishi Heavy Industries America, Inc., 4951 Airport Parkway, Suite 800, Addison, Texas 75001; telephone: (972) 934-5480; fax: (972) 934-5488; Internet: http://www.mu-2aircraft.com or http://www.turbineair.com.

(4) You may review copies of the service information incorporated by reference for this AD at the FAA, Central Region, Office of the Regional Counsel, 901 Locust, Kansas City, Missouri 64106. For information on the availability of this material at the Central Region, call (816) 329-3768.

(5) You may also review copies of the service information incorporated by reference for this AD at the National Archives and Records Administration (NARA). For information on the availability of this material at NARA, call (202) 741-6030, or go to: http://www.archives.gov/federal_register/code_of_federal_regulations/ibr_locations.html.

Table 6—Material Incorporated by Reference
AFM/POM name | AFM effective pages list
MU-2B-25 Airplane Flight Manual K Model, Document Number MR-0156-1, MU-2B-25; MU-2B-25 Pilot's Operating Manual, Document Number MR-0157-1, revised July 15, 2004 | all revised pages up to and including revision 11, dated March 10, 2009, as listed on page 1 and page 2 of the “Effective Pages” in the AFM.
MU-2B-26 Airplane Flight Manual M Model, Document Number MR-0160-1; MU-2B-26 Pilot's Operating Manual, Document Number MR-0161-1, revised July 15, 2004 | all revised pages up to and including revision 11, dated March 10, 2009, as listed on page 1 and page 2 of the “Effective Pages” in the AFM.
MU-2B-26A Airplane Flight Manual P Model, Document Number MR-0194-1; MU-2B-26A Pilot's Operating Manual, Document Number MR-0195-1, revised July 15, 2004 | all revised pages up to and including revision 13, dated March 10, 2009, as listed on page 1 and page 2 of the “Effective Pages” in the AFM.
MU-2B-36A Airplane Flight Manual N Model, Document Number MR-0196-1; MU-2B-36A Pilot's Operating Manual, Document Number MR-0197-1, revised July 15, 2004 | all revised pages up to and including revision 15, dated March 10, 2009, as listed on page 1 and page 2 of the “Effective Pages” in the AFM.
MU-2B-40 Airplane Flight Manual SOLITAIRE Model, Document Number MR-0271-1; MU-2B-40 Pilot's Operating Manual, Document Number MR-0335-1, revised July 15, 2004 | all revised pages up to and including revision 13, dated March 10, 2009, as listed on page 1 and page 2 of the “Effective Pages” in the AFM.
MU-2B-60 Airplane Flight Manual MARQUISE Model, Document Number MR-0273-1; MU-2B-60 Pilot's Operating Manual, Document Number MR-0338-1, revised July 15, 2004 | all revised pages up to and including revision 15, dated March 10, 2009, as listed on page 1 and page 2 of the “Effective Pages” in the AFM.
MU-2B Airplane Flight Manual, YET 67026A; MU-2B Pilot's Operating Manual, Document Number YET 67025A, revised September 10, 1997 | all revised pages up to and including revision 13, dated November 29, 2007, as listed on page 1 and page 2 of the “Effective Pages” in the AFM.
MU-2B-10 Airplane Flight Manual, YET 86400; MU-2B-10 Pilot's Operating Manual, Document Number YET 87236, revised September 10, 1997 | all revised pages up to and including revision 13, dated November 29, 2007, as listed on page 1 and page 2 of the “Effective Pages” in the AFM.
MU-2B-15 Airplane Flight Manual, YET 68038A; MU-2B-15 Pilot's Operating Manual, Document Number YET 87237, revised September 10, 1997 | all revised pages up to and including revision 13, dated November 29, 2007, as listed on page 1 and page 2 of the “Effective Pages” in the AFM.
MU-2B-20 Airplane Flight Manual, YET 68034A; MU-2B-20 Pilot's Operating Manual, Document Number YET 68134A, revised February 20, 1998 | all revised pages up to and including revision 13, dated November 29, 2007, as listed on page 1 and page 2 of the “Effective Pages” in the AFM.
MU-2B-25 Airplane Flight Manual, YET 71367A; MU-2B-25 Pilot's Operating Manual, Document Number YET 72067A, revised September 10, 1997 | all revised pages up to and including revision 13, dated November 29, 2007, as listed on page 1 and page 2 of the “Effective Pages” in the AFM.
MU-2B-26 Airplane Flight Manual, YET 74129A; MU-2B-26 Pilot's Operating Manual, Document Number YET 74130A, revised September 10, 1997 | all revised pages up to and including revision 13, dated November 29, 2007, as listed on page 1 and page 2 of the “Effective Pages” in the AFM.
MU-2B-30 Airplane Flight Manual, YET 69013A; MU-2B-30 Pilot's Operating Manual, Document Number YET 69224A, revised September 10, 1997 | all revised pages up to and including revision 14, dated November 29, 2007, as listed on page 1 and page 2 of the “Effective Pages” in the AFM.
MU-2B-35 Airplane Flight Manual, YET 70186A; MU-2B-10 Pilot's Operating Manual, Document Number YET 70187A, revised September 10, 1997 | all revised pages up to and including revision 14, dated November 29, 2007, as listed on page 1 and page 2 of the “Effective Pages” in the AFM.
MU-2B-36 Airplane Flight Manual, YET 74122A; MU-2B-36 Pilot's Operating Manual, Document Number YET 74123A, revised September 10, 1997 | all revised pages up to and including revision 13, dated November 29, 2007, as listed on page 1 and page 2 of the “Effective Pages” in the AFM.

Issued in Kansas City, Missouri on May 4, 2010.
Wes Ryan,
Acting Manager, Small Airplane Directorate, Aircraft Certification Service.

[FR Doc. 2010-11034 Filed 6-16-10; 8:45 am]

BILLING CODE 4910-13-P